Executive Order 13607 of April 27, 2012

Establishing Principles of Excellence for Educational Institutions Serving Service Members, Veterans, Spouses, and Other Family Members

By the authority vested in me as President by the Constitution and the laws of the United States of America, and in order to ensure that Federal military and veterans educational benefits programs are providing service members, veterans, spouses, and other family members with the information, support, and protections they deserve, it is hereby ordered as follows:

Section 1. Policy. The original GI Bill, approved just weeks after D-Day, educated nearly 8 million Americans and helped transform this Nation. We owe the same obligations to this generation of service men and women as was afforded that previous one. This is the promise of the Post-9/11 Veterans Educational Assistance Act of 2008 (title V, Public Law 110-252) (Post-9/11 GI Bill) and the continued provision of educational benefits in the Department of Defense's Tuition Assistance Program (10 U.S.C. 2007): to provide our service members, veterans, spouses, and other family members the opportunity to pursue a high-quality education and gain the skills and training they need to fill the jobs of tomorrow.

Since the Post-9/11 GI Bill became law, there have been reports of aggressive and deceptive targeting of service members, veterans, and their families by some educational institutions. For example, some institutions have recruited veterans with serious brain injuries and emotional vulnerabilities without providing academic support and counseling; encouraged service members and veterans to take out costly institutional loans rather than encouraging them to apply for Federal student loans first; engaged in misleading recruiting practices on military installations; and failed to disclose meaningful information that allows potential students to determine whether the institution has a good record of graduating service members, veterans, and their families and positioning them for success in the workforce.

To ensure our service members, veterans, spouses, and other family members have the information they need to make informed decisions concerning their well-earned Federal military and veterans educational benefits, I am directing my Administration to develop Principles of Excellence to strengthen oversight, enforcement, and accountability within these benefits programs.

Sec. 2. Principles of Excellence for Educational Institutions Serving Service Members, Veterans, Spouses, and Other Family Members. The Departments of Defense, Veterans Affairs, and Education shall establish Principles of Excellence (Principles) to apply to educational institutions receiving funding from Federal military and veterans educational benefits programs, including benefits programs provided by the Post-9/11 GI Bill and the Tuition Assistance Program. The Principles should ensure that these educational institutions provide meaningful information to service members, veterans, spouses, and other family members about the financial cost and quality of educational institutions to assist those prospective students in making choices about how to use their Federal educational benefits; prevent abusive and deceptive recruiting practices that target the recipients of Federal military and veterans educational benefits; and ensure that educational institutions provide high-quality academic and student support services to active-duty service members, reservists, members of the National Guard, veterans, and military families.

To the extent permitted by law, the Principles, implemented pursuant to section 3 of this order, should require educational institutions receiving funding pursuant to Federal military and veterans educational benefits to:

(a) prior to enrollment, provide prospective students who are eligible to receive Federal military and veterans educational benefits with a personalized and standardized form, as developed in a manner set forth by the Secretary of Education, working with the Secretaries of Defense and Veterans Affairs, to help those prospective students understand the total cost of the educational program, including tuition and fees; the amount of that cost that will be covered by Federal educational benefits; the type and amount of financial aid they may qualify for; their estimated student loan debt upon graduation; information about student outcomes; and other information to facilitate comparison of aid packages offered by different educational institutions;

(b) inform students who are eligible to receive Federal military and veterans educational benefits of the availability of Federal financial aid and have in place policies to alert those students of their potential eligibility for that aid before packaging or arranging private student loans or alternative financing programs;

(c) end fraudulent and unduly aggressive recruiting techniques on and off military installations, as well as misrepresentation, payment of incentive compensation, and failure to meet State authorization requirements, consistent with the regulations issued by the Department of Education (34 C.F.R. 668.71-668.75, 668.14, and 600.9);

(d) obtain the approval of the institution's accrediting agency for new course or program offerings before enrolling students in such courses or programs, provided that such approval is appropriate under the substantive change requirements of the accrediting agency;

(e) allow service members and reservists to be readmitted to a program if they are temporarily unable to attend class or have to suspend their studies due to service requirements, and take additional steps to accommodate short absences due to service obligations, provided that satisfactory academic progress is being made by the service members and reservists prior to suspending their studies;

(f) agree to an institutional refund policy that is aligned with the refund of unearned student aid rules applicable to Federal student aid provided through the Department of Education under Title IV of the Higher Education Act of 1965, as required under section 484B of that Act when students withdraw prior to course completion;

(g) provide educational plans for all individuals using Federal military and veterans educational benefits that detail how they will fulfill all the requirements necessary to graduate and the expected timeline of completion; and

(h) designate a point of contact for academic and financial advising (including access to disability counseling) to assist service member and veteran students and their families with the successful completion of their studies and with their job searches.

Sec. 3. Implementation of the Principles of Excellence.

(a) The Departments of Defense and Veterans Affairs shall reflect the Principles described in section 2 of this order in new agreements with educational institutions, to the extent practicable and permitted by law, concerning participation in the Yellow Ribbon Program for veterans under the Post-9/11 GI Bill or the Tuition Assistance Program for active duty service members. The Department of Veterans Affairs shall also notify all institutions participating in the Post-9/11 GI Bill program that they are strongly encouraged to comply with the Principles and shall post on the Department's website those that do.

(b) The Secretaries of Defense, Veterans Affairs, and Education, in consultation with the Director of the Bureau of Consumer Financial Protection (CFPB) and the Attorney General, shall take immediate action to implement this order, and, within 90 days from the date of this order, report to the President their progress on implementation, including promptly revising regulations, Department of Defense Instructions, guidance documents, Memoranda of Understanding, and other policies governing programs authorized or funded by the Post-9/11 GI Bill and the Tuition Assistance Program to implement the Principles, to the extent permitted by law.

(c) The Secretaries of Defense, Veterans Affairs, and Education shall develop a comprehensive strategy for developing service member and veteran student outcome measures that are comparable, to the maximum extent practicable, across Federal military and veterans educational benefit programs, including, but not limited to, the Post-9/11 GI Bill and the Tuition Assistance Program. To the extent practicable, the student outcome measures should rely on existing administrative data to minimize the reporting burden on institutions participating in these benefit programs. The student outcome measures should permit comparisons across Federal educational programs and across institutions and types of institutions. The Secretary of Education, in consultation with the Secretaries of Defense and Veterans Affairs, shall also collect from educational institutions, as part of the Integrated Postsecondary Education Data System and other data collection systems, information on the amount of funding received pursuant to the Post-9/11 GI Bill and the Tuition Assistance Program. The Secretary of Education shall make this information publicly available on the College Navigator Website.

(d) The Secretary of Veterans Affairs, in consultation with the Secretaries of Defense and Education, shall provide to prospective military and veteran students, prior to using their benefits, streamlined tools to compare educational institutions using key measures of affordability and value through the Department of Veterans Affairs' eBenefits portal. The eBenefits portal shall be updated to facilitate access to school performance information, consumer protection information, and key Federal financial aid documents. The Secretaries of Defense and Veterans Affairs shall also ensure that service members and veterans have access to that information through educational counseling offered by those Departments.

Sec. 4. Strengthening Enforcement and Compliance Mechanisms. Service members, veterans, spouses, and other family members should have access to a strong enforcement system through which to file complaints when institutions fail to follow the Principles. Within 90 days of the date of this order, the Secretaries of Defense and Veterans Affairs, in consultation with the Secretary of Education and the Director of the CFPB, as well as with the Attorney General, as appropriate, shall submit to the President a plan to strengthen enforcement and compliance mechanisms. The plan shall include proposals to:

(a) create a centralized complaint system for students receiving Federal military and veterans educational benefits to register complaints that can be tracked and responded to by the Departments of Defense, Veterans Affairs, Justice, and Education, the CFPB, and other relevant agencies;

(b) institute uniform procedures for receiving and processing complaints across the State Approving Agencies (SAAs) that work with the Department of Veterans Affairs to review participating institutions, provide a coordinated mechanism across SAAs to alert the Department of Veterans Affairs to any complaints that have been registered at the State level, and create procedures for sharing information about complaints with the appropriate State officials, accrediting agency representatives, and the Secretary of Education;

(c) institute uniform procedures for referring potential matters for civil or criminal enforcement to the Department of Justice and other relevant agencies;

(d) establish procedures for targeted risk-based program reviews of institutions to ensure compliance with the Principles;

(e) establish new uniform rules and strengthen existing procedures for access to military installations by educational institutions. These new rules should ensure, at a minimum, that only those institutions that enter into a memorandum of agreement pursuant to section 3(a) of this order are permitted entry onto a Federal military installation for the purposes of recruitment. The Department of Defense shall include specific steps for instructing installation commanders on commercial solicitation rules and the requirement of the Principles outlined in section 2(c) of this order; and

(f) take all appropriate steps to ensure that websites and programs are not deceptively and fraudulently marketing educational services and benefits to program beneficiaries, including initiating a process to protect the term “GI Bill” and other military or veterans-related terms as trademarks, as appropriate.

Sec. 5. General Provisions. (a) This order shall be implemented consistent with applicable law and subject to the availability of appropriations.

(b) Nothing in this order shall be construed to impair or otherwise affect:

(i) the authority granted by law to an executive department, agency, or the head thereof; or

(ii) the functions of the Director of the Office of Management and Budget relating to budgetary, administrative, or legislative proposals.

(c) This order is not intended to, and does not, create any right or benefit, substantive or procedural, enforceable at law or in equity by any party against the United States, its departments, agencies, or entities, its officers, employees, or agents, or any other person.

THE WHITE HOUSE,

April 27, 2012.

[FR Doc. 2012-10715

Filed 5-1-12; 8:45 am]

Billing code 3295-F2-P